NUCLEAR REGULATORY COMMISSION

Sunshine Federal Register Notice

Date: Weeks of May 28, June 4, 11, 18, 25, July 2, 2007.

Place: Commissioners' Conference Room, 11555 Rockville Pike, Rockville, Maryland.

Status: Public and Closed.

Matters to be Considered:

Week of May 28, 2007

Tuesday, May 29, 2007

1:30 p.m. NRC All Hands Meeting (Public Meeting) (Contact: Rickie Seltzer, 301-415-1728), Marriott Bethesda North Hotel, Salons A-E, 5701 Marinelli Road, Rockville, MD 20852.

Wednesday, May 30, 2007

9:25 a.m. Affirmation Session (Public Meeting) (Tentative): a. USEC Inc. (American Centrifuge Plant), LBP-07-06 (Initial Decision Authorizing License), Geoffrey Sea Letter “in preparation of late-filed contentions” (Tentative).

b. Shieldalloy Metallurgical Corp. (Licensing Amendment Request for Decommissioning of the Newfield, New Jersey Facility), Docket No. 40-7102-MLA, Appeal of Loretta Williams from LBP-07-05 (Tentative).

This meeting will be webcast live at the Web address— http://www.nrc.gov.

9:30 a.m. Briefing on Results of the Agency Action Review Meeting (AARM)—Materials (Public Meeting) (Contact: Duane White, 301-415-6272).

This meeting will be webcast live at the Web address— http://www.nrc.gov.

10:15 a.m. Discussion of Security Issues (Closed-Ex.1).

Thursday, May 31, 2007

9 a.m. Briefing on Results of the Agency Action Review Meeting (AARM)—Reactors (Public Meeting) (Contact: Mark Tonacci, 301-415-4045).

This meeting will be webcast live at the Web address— http://www.nrc.gov.

Week of June 4, 2007—Tentative

Thursday, June 7, 2007

1:30 p.m. Meeting with the Advisory Committee on Reactor Safeguards (ACRS) (Public Meeting) (Contact: Frank Gillespie, 301-415-7360).

This meeting will be webcast live at the Web address— http://www.nrc.gov.

Week of June 11, 2007—Tentative

There are no meetings scheduled for the Week of June 11, 2007.

Week of June 18, 2007—Tentative

There are no meetings scheduled for the Week of June 18, 2007.

Week of June 25, 2007—Tentative

There are no meetings scheduled for the Week of June 25, 2007.

Week of July 2, 2007—Tentative

There are no meetings scheduled for the Week of July 2, 2007.

* * * * *

*The schedule for Commission meetings is subject to change on short notice. To verify the status of meetings call (recording)—(301) 415-1292. Contact person for more information: Michelle Schroll, (301) 415-1662.

* * * * *

The NRC Commission Meeting Schedule can be found on the Internet at: http://www.nrc.gov/about-nrc/policy-making/schedule.html.

* * * * *

The NRC provides reasonable accommodation to individuals with disabilities where appropriate. If you need a reasonable accommodation to participate in these public meetings, or need this meeting notice or the transcript or other information from the public meetings in another format (e.g. braille, large print), please notify the NRC's Disability Program Coordinator, Deborah Chan, at 301-415-7041, TDD: 301-415-2100, or by e-mail at DLC@nrc.gov. Determinations on requests for reasonable accommodation will be made on a case-by-case basis.

* * * * *

This notice is distributed by mail to several hundred subscribers; if you no longer wish to receive it, or would like to be added to the distribution, please contact the Office of the Secretary, Washington, DC 20555 (301-415-1969). In addition, distribution of this meeting notice over the Internet system is available. If you are interested in receiving this Commission meeting schedule electronically, please send an electronic message to dkw@nrc.gov.

Dated: May 24, 2007.
R. Michelle Schroll,
Office of the Secretary.

[FR Doc. 07-2687 Filed 5-25-07; 11:56 am]

BILLING CODE 7590-01-P